DEPARTMENT OF AGRICULTURE

Submission for OMB Review; Comment Request

May 17, 2022.

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 22, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Agricultural Foreign Investment Disclosure Act Report.

OMB Control Number: 0560-0097.

Summary of Collection: The Agricultural Foreign Investment Disclosure Act of 1978 (AFIDA) requires foreign investors to report in a timely manner all held, acquired, or transferred United States agricultural land under penalty of law to Farm Service Agency (FSA). Authority under the 92 STAT (1263-1267) or 7 U.S.C. 3501-3508 or Public Law 95-460, to cover the collection of the information was delegated by the Secretary of Agriculture to the Farm Service Agency (FSA). Foreign investors may obtain form FSA-153, AFIDA Report, from their local FSA county office or from the FSA internet site.

Need and Use of the Information: The regulation in the 7 CFR part 781.1-5, requires foreign investors who buy, sell, or hold a direct or indirect interest in U.S. agricultural land to report their holdings and transactions to FSA. The information collected from the AFIDA Reports is used to monitor the effect of foreign investment upon family farms and rural communities and in the preparation of a voluntary report to Congress and the President. Congress reviews the report and decides if regulatory action is necessary to limit the amount of foreign investment in U.S. agricultural land. If this information was not collected, FSA could not effectively monitor foreign investment and the impact of such holdings upon family farms and rural communities.

Description of Respondents: Business or other for-profit; Individuals or households; Farms.

Number of Respondents: 7,775.

Frequency of Responses: Reporting: On occasion; Annually.

Total Burden Hours: 3,694.

Farm Service Agency

Title: Measurement Service Record.

OMB Control Number: 0560-0260.

Summary of Collection: The information collection is authorized by 7 CFR part 718 and described in FSA Handbook 2-CP. If a producer requests measurement services, it becomes necessary for the producer to provide certain information which is collected on an FSA-409 or 409 A. The information is necessary to fulfill the producer's request for measurement services. Producers may request acreage or production measurement services.

Need and Use of the Information: The Farm Service Agency (FSA) will collect the following information that the producer is required to provide on the FSA-409 and FSA 409 A: farm serial number, program year, farm location, contact person, and type of service request (acreage or production). The collected information is used to create a record of measurement service requests and cost to the producer.

Description of Respondents: Farms.

Number of Respondents: 135,000.

Frequency of Responses: Reporting: On occasion; Weekly; Monthly.

Total Burden Hours: 33,750.

Ruth Brown,
Departmental Information Collection Clearance Officer.

[FR Doc. 2022-10948 Filed 5-20-22; 8:45 am]

BILLING CODE 3410-05-P